NATIONAL AERONAUTICS AND SPACE ADMINISTRATION

[Notice (16-080)]

Notice of Intent To Grant an Exclusive License

AGENCY: National Aeronautics and Space Administration.

ACTION: Notice of intent to grant an exclusive license.

SUMMARY: The National Aeronautics and Space Administration (NASA) hereby gives notice of its intent to grant an exclusive license, in the field of use of human and/or animal healthcare, in the Australia, Brazil, Canada, China, Chile, Colombia, Hong Kong, European Union (EPO), India, Indonesia, Israel, Japan, Malaysia, Mexico, New Zealand, Philippines, Russia, Saudi Arabia, Singapore, South Africa, South Korea, United States and Vietnam, to practice the inventions described and claimed in Patent Cooperative Treaty (PCT) Application Number PCT/US15/20964 and national/regional phase patent applications resulting therefrom, titled “Infrasonic Stethoscope for Monitoring Physiological Processes,” NASA Case Number LAR-18509-1-PCT, to Infrasonix Inc., having its principal place of business in Lawrenceville, GA. Certain patent rights in these inventions have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to Patent Counsel, Office of Chief Counsel, NASA Langley Research Center, MS 30, Hampton, VA 23681; (757) 864-3221 (phone), (757) 864-9190 (fax).

FOR FURTHER INFORMATION CONTACT: Andrea Z. Warmbier, Patent Attorney, Office of Chief Counsel, NASA Langley Research Center, MS 30, Hampton, VA 23681; (757) 864-7686; Fax: (757) 864-9190. Information about other NASA inventions available for licensing can be found online at http://technology.nasa.gov. This notice is issued in accordance with 35 U.S.C. 209(e) and 37 CFR 404.7(b)(1)(i).

Mark P. Dvorscak,
Agency Counsel for Intellectual Property.

[FR Doc. 2016-27005 Filed 11-8-16; 8:45 am]

BILLING CODE 7510-13-P